DEPARTMENT OF COMMERCE

International Trade Administration

[A-570-504]

Petroleum Wax Candles from the People's Republic of China: Notice of Final Results of New Shipper Review

AGENCY: Import Administration, International Trade Administration, U.S. Department of Commerce.

SUMMARY: On January 24, 2002, the Department of Commerce (the Department) published the preliminary results of its new shipper review of the antidumping duty order on petroleum wax candles from the People's Republic of China (PRC). See Preliminary Results of Antidumping Duty New Shipper Review: Petroleum Wax Candles from the People's Republic of China, 67 FR 3478 (January 24, 2002) (Preliminary Results). The new shipper review covers the period August 1, 2000 through January 31, 2001.

Based on our analysis of comments received, we have made changes to the margin calculations. Therefore, the final results differ from the preliminary results. The final weighted-average dumping margin for the reviewed firm is listed below in the section entitled “Final Results of Review.”

EFFECTIVE DATE: June 18, 2002.

FOR FURTHER INFORMATION CONTACT: Sally Gannon or Javier Barrientos Antidumping/Countervailing Duty Enforcement Office VII, Import Administration, International Trade Administration, U.S. Department of Commerce, 14th Street and Constitution Avenue, NW, Washington DC 20230; telephone (202) 482-0162 and (202) 482-2243, respectively.

SUPPLEMENTARY INFORMATION:

Applicable Statute

Unless otherwise indicated, all citations to the statute are references to the Tariff Act of 1930 (the Act), as amended. In addition, unless otherwise indicated, all citations to the Department's regulations are to the regulations codified at 19 CFR part 351 (2001). The Department has conducted this new shipper review in accordance with section 751 of the Act.

Background

The company covered by this new shipper review is Shanghai New Star Im/Ex Co., Ltd. (New Star). Since the publication of the Preliminary Results, the following events have occurred. On February 13, 2002, we received a timely submission of publicly available information on the surrogate values for petroleum wax candles from the National Candles Association, petitioner in this proceeding. On February 24, 2002, we received case briefs from New Star and petitioner. On March 4, 2002, we received rebuttal briefs from New Star and petitioner. New Star's briefs were filed not only on its own behalf, but also on behalf of its U.S. importer. On April 12, 2002, the Department issued its notice of extension of the time limit for the final results of the antidumping new shipper review to May 30, 2002. See Petroleum Wax Candles from the People's Republic of China: Notice of Extension of Time Limit for Final Results of the Antidumping New Shipper Review, (67 FR 19160, April 18, 2002). On May 7, 2002, the Department held a public hearing. The Department has now completed this review in accordance with section 751 (a)(2)(B) of the Act.

Scope of Antidumping Duty Order

The products covered by this order are certain scented or unscented petroleum wax candles made from petroleum wax and having fiber or paper-cored wicks. They are sold in the following shapes: tapers, spirals, and straight-sided dinner candles; rounds, columns, pillars, votives; and various wax-filled containers. The products were classified under the Tariff Schedules of the United States (TSUS) item 755.25, Candles and Tapers. The products are currently classified under the Harmonized Tariff Schedule of the United States (HTSUS) item 3406.00.00. Although the HTSUS subheading is provided for convenience and customs purposes, our written description of the scope of this proceeding remains dispositive.

Analysis of Comments Received

All issues raised in the briefs filed by parties to this new shipper review are addressed in the Memorandum from Joseph A. Spetrini, Deputy Assistant Secretary for AD/CVD Enforcement Group III, to Faryar Shirzad, Assistant Secretary for Import Administration: Issues and Decision Memorandum for the Final Results of the Antidumping New Shipper Review of Petroleum Wax Candles from the People's Republic of China, dated May 30, 2001 (Decision Memo), which is hereby adopted by this notice.

A list of the issues which parties have raised and to which we have responded, all of which are in the Decision Memo, is attached to this notice as an Appendix. Parties can find a complete discussion of all issues raised in this review and the corresponding recommendations in this public memorandum, which is on file in the Central Records Unit, room B-099 of the main Commerce Building. In addition, a complete version of the Decision Memo can be accessed directly on the internet at http://ia.ita.doc.gov. The paper copy and electronic version of the Decision Memo are identical in content.

Separate Rates

In the Preliminary Results, we found that New Star met the requirements for receiving a separate rate. No new information or evidence of changed circumstances has been presented since then to warrant reconsideration of this finding. Accordingly, New Star has been assigned a separate rate, the rate listed below under “Final Results of Review,” for purposes of these final results.

Changes Since the Preliminary Results

Based on our analysis of comments received, we have made certain changes in the margin calculations. These include changes to the : time period chosen for factor values; inflation adjustment for electricity; percent factors for factory overhead, SG&A, and profit; and, foreign port brokerage, handling, and loading costs. For a discussion of the issues and changes made, refer to the Decision Memo.

Final Results of Review

We determine that the following weighted-average margin exists for the period August 1, 2000 through January 31, 2001:

Manufacturer/Exporter | Percent
Shanghai New Star Import/Export Co., Ltd. | 95.22%

Assessment Rates

The Department shall determine, and the U.S. Customs Service (Customs) shall assess, antidumping duties on all appropriate entries. We have calculated importer-specific assessment rates. We will direct Customs to assess the rate against the entered customs value for each entry of subject merchandise from New Star during the POR.

Cash Deposit Requirements

The deposit requirement at the rate noted above, under “Final Results of Review,” will be effective for all shipments exported by New Star of petroleum wax candles from the PRC entered, or withdrawn from warehouse, for consumption on or after the date of publication of this notice, as provided by section 751(a)(2)(C) of the Act.

For all other companies, the following rates are in effect and remain unaffected by the results of this new shipper review: (1) for previously-reviewed PRC and non-PRC exporters with separate rates, the cash deposit rate will be the company-specific rate established for the most recent period; (2) for all other PRC exporters, the rate will be the current PRC-wide ad valorem rate, which is 54.21 percent; and (3) for all other non-PRC exporters of subject merchandise from the PRC, the cash deposit rate will be the rate applicable to the PRC supplier of that exporter.

Notifications to Parties

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This new shipper review and notice are in accordance with sections 751(a)(2)(B) and 777(i)(1) of the Act.

DATED: May 30, 2002
Faryar Shirzad,
Assistant Secretary for Import Administration.

Appendix

List of Issues

1. Affiliation of Exporter and U.S. Importer

2. Time Periods for Factor Values

3. Factor Value For Coal

4. Inflation Adjustment For Electricity

5. Factor Identification For Additive

6. Percent Factors For Factory Overhead, SG&A, and Profit

7. Number of Labor Hours Incurred in Candle Production

8. Ocean Freight

9. Foreign Port Brokerage, Handling, and Loading Expenses And Marine Insurance

[FR Doc. 02-15341 Filed 6-17-02; 8:45 am]

BILLING CODE 3510-DS-S